DEPARTMENT OF COMMERCE

Foreign-Trade Zones Board

[B-54-2021]

Foreign-Trade Zone (FTZ) 75—Phoenix, Arizona, Authorization of Production Activity, Nikola Corporation (Electric Road Tractors and Motor Vehicles), Coolidge, Arizona

On July 12, 2021, Nikola Corporation (Nikola) submitted a notification of proposed production activity to the FTZ Board for its facility within Subzone 75M, in Coolidge, Arizona.

The notification was processed in accordance with the regulations of the FTZ Board (15 CFR part 400), including notice in the Federal Register inviting public comment (86 FR 38008, July 19, 2021). On November 9, 2021, the applicant was notified of the FTZ Board's decision that no further review of the proposed activity is warranted at this time. The FTZ Board authorized the production activity described in the notification, subject to the FTZ Act and the Board's regulations, including Section 400.14. The following must be admitted in privileged foreign status (19 CFR 146.41): Tufted carpet; canvas rain guards; motor vehicle seats; upholstered metal frame seats; and, seatbacks, cushions, frames, and seating.

Dated: November 9, 2021.
Elizabeth Whiteman,
Acting Executive Secretary.

[FR Doc. 2021-24856 Filed 11-12-21; 8:45 am]

BILLING CODE 3510-DS-P